DEPARTMENT OF AGRICULTURE

Forest Service

Payette National Forest; Idaho; Wildlife Conservation Strategy Forest Plan Amendment; Withdrawal of Notice of Intent To Prepare an Environmental Impact Statement

AGENCY: Forest Service, USDA.

ACTION: Notice; withdrawal.

SUMMARY: The Payette National Forest is withdrawing the Notice of Intent (NOI) that was published in the Federal Register on April 22, 2009 to prepare an Environmental Impact Statement (EIS) for the Wildlife Conservation Strategy Forest Plan Amendment.

FOR FURTHER INFORMATION CONTACT: Questions concerning this notice should be directed to Deputy Forest Supervisor Susan Howle at Payette National Forest Supervisors Office, 500 North Mission Street Building 2, McCall, ID 83638; via telephone at 208-634-0700 or via email at susan.howle@usda.gov.

Individuals who use telecommunication devices for the hearing-impaired (TDD) may call the Federal Information Relay Service (FIRS) at 1-800-877-8339 between 8 a.m. and 8 p.m., Eastern Daylight Time, Monday through Friday.

SUPPLEMENTARY INFORMATION: A NOI to prepare an EIS was first published in the Federal Register on September 14, 2007 (72 FR 52540) to amend the 2003 Land and Resource Management Plans for the Boise, Payette, and Sawtooth National Forests and was corrected on December 8, 2008 (73 FR 74455) due to a delay in release of the three-forest Draft EIS. On April 22, 2009 (74 FR 18348), a new NOI was filed to prepare a separate EIS for each forest. The Notice of Availability for the Draft EIS for the amendment to the Payette Forest Plan was published in the Federal Register on January 21, 2011 (76 FR 3884).

The Forest Supervisor in consultation with the Intermountain Regional Office has determined that the forest plan amendment proposed in 2011 cannot be completed as initiated per the provisions of 36 CFR 219.13 issued in 2016. Under the new regulations, the project would be required to be re-initiated in order to meet the public notification requirements. The withdrawal of the EIS could not proceed earlier because of pending litigation for another project that referenced the Draft EIS. Judgment in that case was issued in August 2020, and the litigation is no longer pending. Instead of proceeding with a new or re-initiated Plan Amendment at this time, individual projects are considering the need for project level amendments to address wildlife conservation needs on a project-by-project basis based on the best available science. The need for a plan level wildlife conservation strategy will be reassessed during forest plan revision in the future.

Dated: May 21, 2021.
Barnie Gyant,
Associate Deputy Chief, National Forest System.

[FR Doc. 2021-11196 Filed 5-26-21; 8:45 am]

BILLING CODE 3411-15-P